DEPARTMENT OF TRANSPORTATION

Federal Motor Carrier Safety Administration

[Docket No. FMCSA-2018-0002]

Hours of Service of Drivers: Electronic Logging Devices; Application for Exemption; Old Dominion and Other Motor Carriers Experiencing Problems Integrating PeopleNet ELD System Updates Into Their Fleet Management Systems

AGENCY: Federal Motor Carrier Safety Administration (FMCSA), DOT.

ACTION: Notice of withdrawal of application for exemption.

SUMMARY: FMCSA announces that it has accepted the request of Old Dominion Freight Line Inc. (Old Dominion) to withdraw its application for an exemption from the Agency's electronic logging device (ELD) requirements. Old Dominion no longer needs the exemption.

FOR FURTHER INFORMATION CONTACT: For information concerning this notice, contact Mr. Tom Yager, Chief, FMCSA Driver and Carrier Operations Division; Office of Carrier, Driver and Vehicle Safety Standards; Telephone: 614-942-6477. Email: MCPSD@dot.gov.

SUPPLEMENTARY INFORMATION:

Background

Old Dominion, USDOT 90849, reports that it is an interstate motor carrier based in North Carolina with 228 Service Centers located throughout the country. Its operations cover the entire continental United States. The company is one of the largest less-than-truckload carriers in the country, operating a fleet of more than 8,500 power units and employing more than 10,100 commercial motor vehicle (CMV) drivers.

Old Dominion applied for an exemption from the ELD requirements to allow the company to install ELD devices running on automatic on-board recording device (AOBRD) software in CMVs added to the company's fleet for up to one year from the December 18, 2017, ELD mandate compliance date. If granted, this modified ELD phase-in period would have allowed Old Dominion's AORBD/ELD provider, PeopleNet, to complete the development of the software necessary to integrate ELD data with the company's fleet management and safety systems to fully meet the ELD mandate. FMCSA considered the request to be on behalf of all motor carriers in similar situations concerning the integration of PeopleNet's ELD software into fleet management systems. On January 31, 2018, FMCSA published a Federal Register notice of Old Dominion's application for exemption and asked for public comment (83 FR 4548). On March 12, 2018, by letter, Old Dominion asked to withdraw its application for the requested exemption. The letter of withdrawal is in the docket for this notice. The Agency accordingly accepts Old Dominion's request to withdraw its application and closes the docket of this matter.

Issued on: June 11, 2018.
Larry W. Minor,
Associate Administrator for Policy.

[FR Doc. 2018-12986 Filed 6-15-18; 8:45 am]

BILLING CODE 4910-EX-P